NUCLEAR REGULATORY COMMISSION

Consolidated Guidance About Materials Licenses: Program-Specific Guidance About Service Provider Licenses

AGENCY: U.S. Nuclear Regulatory Commission (NRC).

ACTION: Notice of availability of final NUREG.

SUMMARY: The NRC is announcing the availability of the final NUREG-1556, Volume 18, “Consolidated Guidance about Materials Licenses: Program-Specific Guidance about Service Provider Licenses,” dated November 2000.

The NRC is using Business Process Redesign techniques to redesign its materials licensing process, as described in NUREG-1539, “Methodology and Findings of the NRC's Materials Licensing Process Redesign.” A critical element of the new process is consolidating and updating numerous guidance documents into a NUREG-series of reports. This final NUREG report is the eighteenth guidance document developed to support an improved materials licensing process.

This guidance is intended for use by applicants, licensees, and the NRC staff, and will also be available to Agreement States. This document combines and updates the guidance found in the following draft regulatory guides: “Guide for the Application for a License for the Use of Radioactive Materials for Calibrating Radiation Survey and Monitoring Instruments,” “Guide for the Application for the Use of Radioactive Materials in Leak-Testing Services,” and “Guide for the Applications for the Use of Radioactive Materials in Servicing Preregistered Gauges, Measuring Devices, and Sealed Sources Used in Such Devices.” Additionally, NRC staff included information contained in the corresponding Standard Review Plans for these three draft regulatory guides. This final report takes a more risk-informed, performance-based approach to licensing service providers, and reduces the information (amount and level of detail) needed to support an application for these activities. This final document may be used for preparing or reviewing service provider licenses.

A free single copy of final NUREG-1556, Volume 18, may be requested by writing to the U.S. Nuclear Regulatory Commission, ATTN: Mrs. Carrie Brown, Mail Stop TWFN 9-C-24, Washington, DC 20555-0001. Alternatively, submit requests through the Internet by addressing electronic mail to cxb@nrc.gov. A copy of final NUREG-1556, Volume 18, is also available for inspection and/or copying for a fee in the NRC Public Document Room, 2120 L Street, NW. (Lower Level), Washington, DC 20555-0001.

FOR FURTHER INFORMATION CONTACT: Mrs. Carrie Brown, TWFN 9-F-24, Division of Industrial and Medical Nuclear Safety, Office of Nuclear Material Safety and Safeguards, U.S. Nuclear Regulatory Commission, Washington, DC 20555, telephone (301) 415-8092; electronic mail address: cxb@nrc.gov.

Electronic Access

Final NUREG-1556, Volume 18, is available electronically by visiting the NRC's Home Page (http://www.nrc.gov/nrc/nucmat.html).

Dated at Rockville, Maryland, this 9th day of January, 2001.
For the Nuclear Regulatory Commission,
Patricia K. Holahan,
Chief, Rulemaking and Guidance Branch Division of Industrial and Medical Nuclear Safety, NMSS.

[FR Doc. 01-1599 Filed 1-19-01; 8:45 am]

BILLING CODE 7590-01-P